DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Multivariate Profiling of Complex Biological Regulatory Pathways

Kevin Gardner et al. (NCI)

U.S. Patent Application No. 10/822,140 filed 12 Apr 2004 (DHHS Reference No. E-127-2003/0-US-02)

Licensing Contact: Cristina Thalhammer-Reyero; (301) 435-4507; thalhamc@mail.nih.gov.

This invention is in the general area of methods for high-throughput profiling of transcriptional targets. More particularly, it can be described as systems and methods for generating and analyzing multi-factorial biological response profiles, using a transcriptional approach that profiles the activation of multiple transcriptional targets against combinatorial arrays of signal transducing agents and therapeutic drugs. Cellular behavior in response to changes in its environment is controlled through extracellular events that are biochemically “transduced” at the cell membrane, and through a series of molecular signaling pathways converge in the nucleus to influence the combination of transcription factor binding sites that control the activation of targeted genes. Most of those promoter or regulatory regions of gene loci have a modular structure that is bound by two or more different transcriptional factors in a highly cooperative fashion. Accordingly, it is the nature of the surrounding regulatory elements or “promoter context” that combine to determine how genes are transcriptionally regulated. Currently there are very few techniques that provide a clear picture of the level of signal integration that must occur at these transcriptional targets.

The technology is further described in Targeting Combinatorial Transcriptional Complex Assembly at Specific Modules within the Interleukin-2 Promoter by the Immunosuppressant SB203580 by James L. Smith, Irene Collins, G. V. R. Chandramouli, Wayne G. Butscher, Elena Zaitseva, Wendy J. Freebern, Cynthia M. Haggerty, Victoria Doseeva, and Kevin Gardner. J. Biol. Chem., Oct 2003; 278: 41034—41046).

Resonant Structure for Spatial and Spectral-Spatial Imaging of Free Radical Spin Probes Using Radiofrequency Time Domain Electron Paramagnetic Resonance Spectroscopy

Nallathamb Devasahayam et al. (NCI) U.S. Patent 6,573,720 issued 03 Jun 2003 (DHHS Reference No. E-166-1997/0-US-07); European, Japanese, Canadian and Australian rights are also pending

Licensing Contact: Michael Shmilovich; (301) 435-5019; shmilovm@mail.nih.gov.

Available for licensing and commercial development is a radio-frequency coil design suitable for detecting time domain electron paramagnetic resonance responses from spin probes after pulsed excitation using radio-frequency irradiation (60-400 MHz). The coil is configured in an array of numerous surface coils of appropriate diameters connected in a parallel configuration with appropriate spacing between individual surface coils to form a volume type resonator. The design can accommodate and irradiate objects of varying dimensions, such as living objects, containing free radical spin probes and induce an EPR signal which can also be recovered by the resonator. Such a resonator has the capability of facilitating the enhanced dissipation of noise to thermal noise levels associated with the input power from the radio-frequency pulse, and recovering weak and rapidly decaying free induction decays. In addition, the lowering of the Q values by over-coupling, instead of resistively damping provides enhanced B1 fields thereby increasing the sensitivity of detection of the resonance signals after pulsed excitation.

Dated: August 2, 2004.
Steven M. Ferguson,
Director, Division of Technology Development and Transfer, Office of Technology Transfer, National Institutes of Health.

[FR Doc. 04-18621 Filed 8-13-04; 8:45 am]

BILLING CODE 4140-01-P